DEPARTMENT OF HOMELAND SECURITY

Federal Emergency Management Agency

[Docket ID FEMA-2008-0010]

Board of Visitors for the National Fire Academy

AGENCY: Federal Emergency Management Agency, DHS.

ACTION: Committee management; notice of open federal advisory committee teleconference meeting.

SUMMARY: The Board of Visitors for the National Fire Academy (Board) will meet by teleconference on February 21, 2012. The meeting will be open to the public.

DATES: The meeting will take place Tuesday, February 21, 2012, from 1 p.m. to 4 p.m. EDT. Please note that the meeting may close early if the Board has completed its business.

ADDRESSES: Members of the public who wish to obtain the call-in number, access code and other information for the public teleconference may contact Ruth MacPhail as listed in the FOR FURTHER INFORMATION CONTACT section by close of business February 16, 2012, as the number of teleconference lines is limited and available on a first-come, first-served basis. For information on services for individuals with disabilities or to request special assistance, contact Ruth MacPhail as soon as possible.

Members of the public may also participate by coming to the National Emergency Training Center (NETC), Building H, Room 200, Emmitsburg, Maryland. A picture identification is needed for access. Contact Ruth MacPhail for directions.

To facilitate public participation, we are inviting public comment on the issues to be considered by the Board as listed in the SUPPLEMENTARY INFORMATION section. Comments must be submitted in writing no later than February 16, 2012, and must be identified by docket ID FEMA-2008-0010 and may be submitted by one of the following methods:

• Federal eRulemaking Portal: http://www.regulations.gov. Follow the instructions for submitting comments.

• Email: FEMA-RULES@dhs.gov. Include the docket ID in the subject line of the message.

• Fax: (703) 483-2999.

• Mail: Ruth MacPhail, 16825 South Seton Avenue, Emmitsburg, Maryland 21727.

Instructions: All submissions received must include the docket ID for this action. Comments received will be posted without alteration at http://www.regulations.gov, including any personal information provided.

Docket: For access to the docket to read background documents or comments received by the Board, go to http://www.regulations.gov.

Public comments will be requested prior to discussion and deliberation of each agenda item. Speakers will be afforded 5 minutes to make comments. Contact Ruth MacPhail to register as a speaker.

FOR FURTHER INFORMATION CONTACT: Ruth MacPhail, 16825 South Seton Avenue, Emmitsburg, Maryland 21727, telephone (301) 447-1117, fax (301) 447-1173, and email ruth.macphail@fema.dhs.gov.

SUPPLEMENTARY INFORMATION: Notice of this meeting is given under the Federal Advisory Committee Act, 5 U.S.C. App. (Pub. L. 92-463).

Purpose of the Board

The purpose of the Board is to review annually the programs of the National Fire Academy (Academy) and advise the Administrator of the Federal Emergency Management Agency (FEMA), through the United States Fire Administrator, regarding the operation of the Academy and any improvements therein that the Board deems appropriate. The Board makes interim advisories to the Administrator of FEMA, through the United States Fire Administrator, whenever there is an indicated urgency to do so in fulfilling its duties. In carrying out its responsibilities, the Board examines Academy programs to determine whether these programs further the basic missions which are approved by the Administrator of FEMA, examines the physical plant of the Academy to determine the adequacy of the Academy's facilities, and examines the funding levels for Academy programs. The Board submits an annual report through the United States Fire Administrator to the Administrator of FEMA, in writing. The report provides detailed comments and recommendations regarding the operation of the Academy.

Agenda

The Board will select a Chairperson and Vice Chairperson for fiscal year (FY) 2012 and will review and approve the minutes of the October 14-15, 2011, meeting. The Board will review Academy program activities, including instructor-led online course pilot tests, Academy online courses, current curriculum developments, and anticipated FY 2012 curriculum developments. The Academy will report on the American Council on Education (ACE) review of Academy programs and recommendations for implementing a more rigorous system of evaluating and documenting student and instructor performance.

The Board will review the status of the Fire and Emergency Services Higher Education (FESHE) Institutional Recognition and Certificate program, which the North American Fire Training Directors have approved. The Board will review the status of Training Resources and Data Exchange (TRADE)/FESHE Adobe Connect sessions. The Board will discuss the status of deferred maintenance and capital improvements on the NETC campus, to include FY 2012 Budget Planning, and National Fire Programs update. The Board will review and consider reports from the Applicant Outreach Subcommittee, FESHE/Professional Development Subcommittee, Training Resources and Data Exchange Review Subcommittee, and Emergency Medical Services Subcommittee.

After deliberation, the Board will recommend actions to the Superintendent of the National Fire Academy and the Administrator of FEMA.

Dated: January 27, 2012.
Denis G. Onieal,
Superintendent, National Fire Academy, United States Fire Administration, Federal Emergency Management Agency.

[FR Doc. 2012-2466 Filed 2-3-12; 8:45 am]

BILLING CODE 9111-45-P